DEPARTMENT OF STATE

[Public Notice 10988]

Notice of Public Meeting in Preparation for International Maritime Organization (IMO) Meeting

The Department of State will conduct an open meeting at 1:00 p.m. Eastern Standard Time on Thursday, January 23, 2020, in Room 6I10-01-C of the Douglas A. Munro Coast Guard Headquarters Building at St. Elizabeth's, 2703 Martin Luther King Jr. Avenue SE, Washington, DC 20593. The primary purpose of the meeting is to prepare for the seventh session of the International Maritime Organization's (IMO) Sub-Committee on Pollution Prevention and Response (PPR 7) to be held at the IMO Headquarters, United Kingdom, on February 17-21, 2020.

The agenda items to be considered include:

—Adoption of the agenda

—Decisions of other IMO bodies

—Safety and pollution hazards of chemicals and preparation of consequential amendments to the IBC Code

—Revised guidance on ballast water sampling and analysis

—Revised guidance on methodologies that may be used for enumerating viable organisms

—Amendment of Annex 1 to the AFS Convention to include controls on cybutryne, and consequential revision of relevant guidelines

—Review of the 2011 Guidelines for the control and management of ships' biofouling to minimize the transfer of invasive aquatic species (resolution MEPC.207(62))

—Reduction of the impact on the Arctic of Black Carbon emissions from international shipping

—Development of guidelines for onboard sampling of fuel oil not in use by the ship

—Standards for shipboard gasification of waste systems and associated amendments to regulation 16 of MARPOL Annex VI

—Review of the 2015 Guidelines for exhaust gas cleaning systems (resolution MEPC.259(68))

—Evaluation and harmonization of rules and guidance on the discharge of liquid effluents from EGCS into waters, including conditions and areas

—Development of amendments to MARPOL Annex VI and the NOX Technical Code on the use of multiple engine operational profiles for a marine diesel engine

—Development of measures to reduce risks of use and carriage of heavy fuel oil as fuel by ships in Arctic waters

—Review of the IBTS Guidelines and amendments to the IOPP Certificate and Oil Record Book

—Revision of MARPOL Annex IV and associated guidelines to introduce provisions for record-keeping and measures to confirm the lifetime performance of sewage treatment plants

—Follow-up work emanating from the Action Plan to address marine plastic litter from ship

—Unified interpretation to provisions of IMO environment-related conventions

—Biennial agenda and provisional agenda for PPR 8

—Election of Chair and Vice-Chair for 2021

—Any other business

—Report to the Marine Environment Protection Committee

Members of the public may attend this meeting up to the seating capacity of the room. Upon request to the meeting coordinator, members of the public may also participate via teleconference, up to the capacity of the teleconference phone line. Those who RSVP will be notified of the call-in number. To facilitate the building security process, and to request reasonable accommodation, those who plan to attend should contact the meeting coordinator, Ms. Melissa Perera, by email at Melissa.E.Perera@uscg.mil, by phone at (202) 372-1446, or in writing at COMDT (CG-OES-3), ATTN: Ms. Melissa Perera, 2703 Martin Luther King Jr. Ave. SE, Stop 7509, Washington, DC 20593-7509, not later than January 15, 2020, five business days prior to the meeting. Requests made after January 15, 2020, might not be able to be accommodated. Please note that due to security considerations, two valid, government-issued photo identifications must be presented to gain entrance to the Coast Guard Headquarters building. The building is accessible by taxi, public transportation, and privately owned conveyance (upon request).

Jeremy M. Greenwood,
Coast Guard Liaison Officer, Office of Ocean and Polar Affairs, Department of State.

[FR Doc. 2019-27927 Filed 12-26-19; 8:45 am]

BILLING CODE 4710-09-P